ENVIRONMENTAL PROTECTION AGENCY

[FRL-10499-01-OMS]

Privacy Act of 1974; System of Records

AGENCY: Office of Mission Support, Environmental Protection Agency (EPA).

ACTION: Notice of a modified system of records.

SUMMARY: The U.S. Environmental Protection Agency (EPA) is giving notice that it proposes to modify a system of records pursuant to the provisions of the Privacy Act of 1974. The Mass Alert Notification System (MANS) is being modified to update the system location, contact information, and record source categories, and to add one additional General Routine Use. The purpose of the system is to manage communications to agency personnel during critical events. EPA uses MANS for operational response to critical events to keep individuals safe and ensure continuity of business operations. During public safety threats such as active shooter situations, terrorist attacks, or severe weather conditions, as well as critical business events such as IT outages, cyber-attacks, or other incidents such as product recalls or supply-chain interruptions, customers rely on MANS to quickly and reliably aggregate and assess threat data, locate people at risk and responders able to assist, automate the execution of pre-defined communications processes, and track progress on executing incident response plans.

DATES: Persons wishing to comment on this system of records notice must do so by April 6, 2023. Routine uses for this modified system of records will be effective April 6, 2023.

ADDRESSES: Submit your comments, identified by Docket ID No. EPA-HQ-OEI-2016-0235, by one of the following methods:

Federal eRulemaking Portal: https://www.regulations.gov. Follow the online instructions for submitting comments.

Email: docket_oms@epa.gov. Include the Docket ID number in the subject line of the message.

Fax: (202) 566-1752.

Mail: OMS Docket, Environmental Protection Agency, Mail Code: 2822T, 1200 Pennsylvania Ave. NW, Washington, DC 20460.

Hand Delivery: OMS Docket, EPA/DC, WJC West Building, Room 3334, 1301 Constitution Ave. NW, Washington, DC 20460. Such deliveries are only accepted during the Docket's normal hours of operation, and special arrangements should be made for deliveries of boxed information.

Instructions: Direct your comments to Docket ID No. EPA-HQ-OEI-2016-0235. The EPA's policy is that all comments received will be included in the public docket without change and may be made available online at https://www.regulations.gov, including any personal information provided, unless the comment includes information claimed to be Controlled Unclassified Information (CUI) or other information for which disclosure is restricted by statute. Do not submit information that you consider to be CUI or otherwise protected through https://www.regulations.gov. The https://www.regulations.gov website is an “anonymous access” system for the EPA, which means the EPA will not know your identity or contact information. If you submit an electronic comment, the EPA recommends that you include your name and other contact information in the body of your comment. If the EPA cannot read your comment due to technical difficulties and cannot contact you for clarification, the EPA may not be able to consider your comment. If you send an email comment directly to the EPA without going through https://www.regulations.gov, your email address will be automatically captured and included as part of the comment that is placed in the public docket and made available on the internet. Electronic files should avoid the use of special characters, any form of encryption, and be free of any defects or viruses. For additional information about the EPA public docket, visit the EPA Docket Center homepage at https://www.epa.gov/dockets.

Docket: All documents in the docket are listed in the https://www.regulations.gov index. Although listed in the index, some information is not publicly available, e.g., CUI or other information for which disclosure is restricted by statute. Certain other material, such as copyrighted material, will be publicly available only in hard copy. Publicly available docket materials are available either electronically in https://www.regulations.gov or in hard copy at the OMS Docket, EPA/DC, WJC West Building, Room 3334, 1301 Constitution Ave. NW, Washington, DC 20460. The Public Reading Room is normally open from 8:30 a.m. to 4:30 p.m., Monday through Friday excluding legal holidays. The telephone number for the Public Reading Room is (202) 566-1744, and the telephone number for the OMS Docket is (202) 566-1752. Further information about EPA Docket Center services and current operating status is available at https://www.epa.gov/dockets.

FOR FURTHER INFORMATION CONTACT: Tiye Houston, Physical Security and Preparedness Branch, Security Management Division, (202) 564-1787.

SUPPLEMENTARY INFORMATION: EPA uses MANS to disseminate emergency alerts and notification information rapidly and effectively to EPA personnel, contractors, grantees, consultants, volunteers, and other support staff, and their emergency contacts. The MANS system of records is being modified to (1) update the system location to reflect the correct system location (i.e., Amazon Web Services cloud), (2) update the “system manager(s)” section to include the current system manager of MANS, (3) update the General Routine Uses to add routine use M, and (4) update the “record source categories” section to include the current records sources.

SYSTEM NAME AND NUMBER:

Mass Alert and Notification Systems (MANS), EPA-44.

SECURITY CLASSIFICATION:

Unclassified.

SYSTEM LOCATION:

The EPA component responsible for the system is the Office of Mission Support, Environmental Protection Agency, 1301 Constitution Ave. NW, Washington, DC 20460. Records are cloud hosted at the third-party service provider Amazon Web Services US East (Northern Virginia) and US West (Oregon, Northern California) data centers.

SYSTEM MANAGER(S):

Director, Security Management Division, Office of Administration, Office of Mission Support, William Jefferson Clinton North Building, Suite B400, 1200 Pennsylvania Avenue NW, Washington, DC 20460.

AUTHORITY FOR MAINTENANCE OF THE SYSTEM:

42 U.S.C. 5121 et seq.; Executive Order 12656 (Nov. 18, 1989); Federal Continuity Directive 1 (2012).

PURPOSE(S) OF THE SYSTEM:

To contact EPA personnel, contractors, grantees, consultants, volunteers, and other support staff who have an active EPA identification badge or are in the process of obtaining an EPA identification badge, for the purposes of providing emergency alerts and notifications and conducting accountability activities in support of affected persons following an emergency, or, as a means to account for EPA employees, contractors, grantees, consultants, and any other support staff personnel following an emergency event. Records may also be used for mass alert and notification system test, drill, and exercise evolutions. This system will provide EPA with the ability to disseminate emergency alerts and notification information rapidly and effectively to EPA personnel and their emergency contacts.

CATEGORIES OF INDIVIDUALS COVERED BY THE SYSTEM:

EPA personnel, contractors, grantees, consultants, volunteers, and any other support staff personnel.

CATEGORIES OF RECORDS IN THE SYSTEM:

Personnel information includes first name, last name, middle initial, office location, scope of the record subject's responsibilities, work email address, work telephone number and work mobile telephone number, work short message service (SMS) (texting) and work telephone typewriter, teletypewriter, or text phone/Telecommunications Device for the Deaf (TTY/TDD). Records are from various communications mediums such as telephones, emails, and SMS. Record subjects have the option to add their own personal contact information voluntarily and securely, and emergency contact(s), including home address, personal email address(es), home telephone number(s) and personal mobile telephone number(s), short message service (SMS) (texting), telephone typewriter, teletypewriter, or text phone/Telecommunications Device for the Deaf (TTY/TDD) by establishing a personal account on the MANS web-portal.

RECORD SOURCE CATEGORIES:

Records contained in this system of records are obtained from individuals including: EPA personnel, contractors, grantees, consultants, volunteers and any other support staff personnel. Records contained in this system of records are obtained from the following EPA systems: Human Resources Line of Business (HR LoB), EPA Telecommunication Detail Records, and Personnel Security System (PSS) 2.0.

ROUTINE USES OF RECORDS MAINTAINED IN THE SYSTEM, INCLUDING CATEGORIES OF USERS AND PURPOSES OF SUCH USES:

The routine uses below are both related to and compatible with the original purpose for which the information was collected. The following general routine uses apply to this system (86 FR 62527): A, E, F, G, H, K, L, and M.

POLICIES AND PRACTICES FOR STORAGE OF RECORDS:

These records are maintained electronically on computer storage devices managed by Amazon Web Services, located in US East (Northern Virginia) and US West (Oregon, Northern California) data centers.

POLICIES AND PRACTICES FOR RETRIEVAL OF RECORDS:

Information will be retrieved primarily by employee name. Information may also be retrieved by any collected data element.

POLICIES AND PRACTICES FOR RETENTION AND DISPOSAL OF RECORDS:

Records stored in this system are subject to EPA's records schedule 1012, Information Technology Management. Records are kept as long as the record subject is affiliated with EPA.

ADMINISTRATIVE, TECHNICAL, AND PHYSICAL SAFEGUARDS:

Security controls used to protect personal sensitive data in MANS are commensurate with those required for an information system rated MODERATE for confidentiality, integrity, and availability, as prescribed in National Institute of Standards and Technology (NIST) Special Publication, 800-53, “Security and Privacy Controls for Information Systems and Organizations,” Revision 5.

1. Administrative Safeguards: The MANS cloud service provider and EPA information security and privacy policies require all employees and contractors to take security awareness training on an annual basis. All personnel are instructed to lock their computers when they leave their desks.

2. Technical Safeguards: MANS is a cloud-based Software-as-a-Service platform that is designed to be accessed over the internet. All remote communication must be encrypted, and all users are required to be authorized. Access control policy does not permit shared account credentials within the cloud environment. Each user is assigned unique credentials and can only access the cloud environment using their assigned unique credentials. Group accounts are explicitly disabled. MANS customers and personnel are prohibited from sharing accounts. MANS also implements session timeout period after 15 minutes of user inactivity. Non-privileged users do not have the capability to perform privileged functions. Access to the system is restricted to a limited number of authorized users with the appropriate security clearances and password permissions. Access to the system is further limited by user type. System administrators have full access to the tool suite, including the ability to perform administrative functions. Other users have limited access particularized to the specific functions and data they need to perform. This access is controlled by a series of permissions within dedicated workspaces/databases for each specific request. Authorized users include federal and contract staff located throughout the country.

3. Physical Safeguards: The system is maintained in secure areas and buildings with physical access controls.

RECORD ACCESS PROCEDURES:

All requests for access to personal records should cite the Privacy Act of 1974 and reference the type of request being made (i.e., access). Requests must include: (1) the name and signature of the individual making the request; (2) the name of the Privacy Act system of records to which the request relates; (3) a statement whether a personal inspection of the records or a copy of them by mail is desired; and (4) proof of identity. A full description of EPA's Privacy Act procedures for requesting access to records is included in EPA's Privacy Act regulations at 40 CFR part 16.

CONTESTING RECORD PROCEDURES:

Requests for correction or amendment must include: (1) the name and signature of the individual making the request; (2) the name of the Privacy Act system of records to which the request relates; (3) a description of the information sought to be corrected or amended and the specific reasons for the correction or amendment; and (4) proof of identity. A full description of EPA's Privacy Act procedures for the correction or amendment of a record is included in EPA's Privacy Act regulations at 40 CFR part 16.

NOTIFICATION PROCEDURES:

Individuals who wish to be informed whether a Privacy Act system of records maintained by EPA contains any record pertaining to them, should make a written request to the EPA, Attn: Agency Privacy Officer, MC 2831T, 1200 Pennsylvania Ave. NW, Washington, DC 20460, or by email at: privacy@epa.gov. A full description of EPA's Privacy Act procedures is included in EPA's Privacy Act regulations at 40 CFR part 16.

EXEMPTIONS PROMULGATED FOR THE SYSTEM:

None.

HISTORY:

81 FR 76580 (November 3, 2016).

Vaughn Noga,
Senior Agency Official for Privacy.

[FR Doc. 2023-04633 Filed 3-6-23; 8:45 am]

BILLING CODE 6560-50-P